DEPARTMENT OF TREASURY

Office of Domestic Finance; Small Business, Community Development and Affordable Housing Policy; Small Business Lending Fund; Proposed Collection; Comment Request

ACTION: Notice and request for comments.

SUMMARY: The Department of Treasury, as part of its continuing effort to reduce paperwork and respondent burden, invites the general public and other Federal agencies to take this opportunity to comment on proposed information collections, as required by the Paperwork Reduction Act of 1995, Public Law 104-13 (44 U.S.C. 3506(c)(2)(A)). Currently, the Small Business Lending Fund (SBLF) within the Department of Treasury is soliciting comments concerning the Small Business Lending Survey it proposes to administer to participants in the SBLF.

DATES: Written comments should be received on or before June 1, 2012 to be assured of consideration.

ADDRESSES: Direct all written comments to Office of Domestic Finance, Small Business Lending Fund; Daniel Rourke; 1500 Pennsylvania Avenue NW., Washington, DC 20220; 202-622-0984; daniel.rourke@treasury.gov.

FOR FURTHER INFORMATION CONTACT: Requests for additional information should be directed to the Office of Domestic Finance, Small Business Lending Fund; Daniel Rourke; 1500 Pennsylvania Avenue NW., Washington, DC 20220; 202-622-0984; daniel.rourke@treasury.gov.

SUPPLEMENTARY INFORMATION: Title: Lending Survey of Participants in Small Business Lending Fund.

Abstract: Established by the Small Business Jobs Act of 2010 (the Act), the Small Business Lending Fund (SBLF) is a dedicated investment fund that encourages lending to small businesses by providing capital to qualified community banks and community development loan funds (CDLFs) with assets of less than $10 billion. Through the SBLF, participating Main Street lenders and small businesses work together to help create jobs and promote economic growth in local communities across the nation.

The Act required that all U.S. Department of the Treasury (Treasury) investments for the SBLF be made by September 27, 2011. Through the SBLF, Treasury made investments in 332 community institutions, including banks, thrifts and CDLFs. The size of the SBLF portfolio is approximately $4.03 billion (approximately $3.9 billion in 281 community banks and approximately $100 million in 51 CDLFs). To encourage small business lending, the dividend or interest rate on SBLF funding provided to banks and thrifts is reduced as these participants increase their qualified small business lending. The SBLF does not use the same standards that the Small Business Administration uses to determine what qualifies as a small business loan. For more details about the program, please visit www.treasury.gov/sblf.

Treasury plans to conduct an annual lending survey with the program participants to identify the impact of the investment on lending to small businesses, consistent with the purpose of the Act to increase the availability of credit for small businesses. This survey is not required by law, but the SBLF Securities Purchase Agreement requires participants to complete a survey in a form specified by Treasury. Below is a description of the information that the SBLF Program Office is looking for to assist with the aforementioned annual lending survey.

Current Actions: Treasury plans to collect information from SBLF participants about the small business lending supported by SBLF's investment. SBLF will request information from participants on changes in small business lending capacity as a result of the SBLF investment, the amounts and volume of loans extended across different categories of small business lending attributable to the SBLF investment, and the types and extent of outreach undertaken to expand lending to small businesses in underserved communities and small businesses owned by women, minorities and veterans resulting from participation in the SBLF.

Type of Review: New, Non-Rulemaking.

Affected Public: Businesses or other for-profit, and not-for-profit institutions.

Estimated Number of Respondents: All 332 SBLF Participants.

Estimated Total Burden Hours: 996 hours.

Request For Comments: Comments submitted in response to this notice will be summarized and/or included in the request for OMB approval. All comments will become a matter of public record. Comments are invited on: (a) Whether the collection of information is necessary for the proper performance of the functions of the SBLF, including whether the information shall have a practical utility; (b) the accuracy of the SBLF's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: March 26, 2012.
Daniel Rourke,
SBLF Outreach Manager.

[FR Doc. 2012-7900 Filed 3-30-12; 8:45 am]

BILLING CODE 4810-25-P